INTERNATIONAL TRADE COMMISSION

[Inv. No. 337-TA-863]

Certain Paper Shredders, Certain Processes for Manufacturing or Relating to Same and Certain Products Containing Same and Certain Parts Thereof

AGENCY: U.S. International Trade Commission.

ACTION: Notice.

SUMMARY: Notice is hereby given that a complaint was filed with the U.S. International Trade Commission on December 20, 2012, under section 337 of the Tariff Act of 1930, as amended, 19 U.S.C. 1337, on behalf of Fellowes, Inc. of Itasca, Illinois and Fellowes Office Products (Suzhou) Co. Ltd. of China. Letters supplementing the complaint were filed on January 8 and 10, 2013. The complaint alleges violations of section 337 based upon the importation into the United States, the sale for importation, and the sale within the United States after importation of certain paper shredders, certain processes for manufacturing or relating to same and certain products containing same and certain parts thereof by reason of infringement of U.S. Patent No. D583,859 (“the `859 patent”) and U.S. Patent No. D598,048 (“the `048 patent”) and that an industry in the United States exists as required by subsection (a)(2) of section 337. The complaint also alleges violations of section 337 based upon the importation into the United States, the sale for importation, and the sale within the United States after importation of certain paper shredders, certain processes for manufacturing or relating to same and certain products containing same and certain parts thereof by reason of misappropriation of trade secrets, the threat or effect of which is to destroy or substantially injure an industry in the United States.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of Investigation: Having considered the complaint, the U.S. International Trade Commission, on January 18, 2013, ordered that—

(1) Pursuant to subsection (b) of section 337 of the Tariff Act of 1930, as amended, an investigation be instituted to determine:

(a) Whether there is a violation of subsection (a)(1)(B) of section 337 in the importation into the United States, the sale for importation, or the sale within the United States after importation of certain paper shredders, certain processes for manufacturing or relating to same and certain products containing same and certain parts thereof by reason of infringement of the claim of the `859 patent and the claim of the `048 patent, and whether an industry in the United States exists as required by subsection (a)(2) of section 337;

(b) Whether there is a violation of subsection (a)(1)(A) of section 337 in the importation into the United States, the sale for importation, or the sale within the United States after importation of certain paper shredders, certain processes for manufacturing or relating to same and certain products containing same and certain parts thereof by reason of misappropriation of trade secrets, the threat or effect of which is to destroy or substantially injure an industry in the United States;

(2) For the purpose of the investigation so instituted, the following are hereby named as parties upon which this notice of investigation shall be served:

(a) The complainants are:

Fellowes, Inc., 1789 Norwood Avenue, Itasca, IL 60143-1095;

Fellowes Office Products, (Suzhou) Co., Ltd., 1 Shilin Road, Suzhou New District, Jiangsu Province, Suzhou 215151, China.

(b) The respondents are the following entities alleged to be in violation of section 337, and are the parties upon which the complaint is to be served:

New United Co. Group Ltd., No. 18 Qianjia Industrial Park, Yaoguan Town, Wujin District, Changzhou, Jiangsu 213011, China;

Jiangsu New United Office Equipments Co. Ltd., No. 6 Qianjia Industrial Park, Yaoguan, Jiangsu Province 213011, China;

Shenzhen Elite Business, Office Equipment Co. Ltd., No. 88 Fuhuasan Road, Futian District, Unit 11D15, 11th Floor, Fortune Plaza, Shenzhen City, Guangdong Province, China, 518026;

Elite Business Machines Ltd., Unit 1A, 2nd Floor, Fu Tao Building, 98 Argyle Street, Mong Kok, Kowloon, Hong Kong Special Administrative Region, China;

New United Office Equipment USA, Inc., 3701 Commercial Avenue, Northbrook, IL 60062;

Jiangsu Shinri Machinery Co. Ltd., Qianjia Industrial Park, Yaoguan Town, Wujin District, Changzhou, Jiangsu Province, China;

Zhou Licheng, No. 45, Miaotou Natural Village, Qianjia Administrative Village, Yaoguan Town, Wujin District, Changzhou City, Jiangsu Province, China, 213102;

Randall Graves, Apartment 1201, Unit C, Block 320, Nandu Section, Hutang New City Complex, Wujin District, Changzhou City, Jiangsu Province, China, 213161;

“Jessica” Wang Chongge, Group 1, Tonguyan Village, Tongyuan Town, Gaoling County, Xi'an City, Shaanzi Province, China 710202.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 22, 2013.
William R. Bishop,
Supervisory Hearings and Information Officer.

[FR Doc. 2013-01553 Filed 1-24-13; 8:45 am]

BILLING CODE 7020-02-P